DEPARTMENT OF HEALTH AND HUMAN SERVICES

Health Resources and Services Administration

Eligibility Criteria for Sites Recruiting National Health Service Corps Scholars

AGENCY: Health Resources and Services Administration, HHS.

ACTION: General notice.

SUMMARY: The Health Resources and Services Administration (HRSA) announces the eligibility criteria, including their Health Professional Shortage Area (HPSA) scores, for entities that are seeking to recruit National Health Service Corps (NHSC) scholarship recipients (Corps Personnel, Corps members) during the period July 1, 2011, through June 30, 2012. A searchable database that specifies all currently approved NHSC service sites is posted on the NHSC Web site at http://datawarehouse.hrsa.gov/HGDWReports/OneClickRptFilter.aspx?rptName=NHSCAppSiteList&rptFormat=HTML3.2. This database can be searched by State and can be utilized to determine which entities are eligible to receive assignment of Corps members who are participating in the NHSC Scholarship Program based on the threshold HPSA score set forth below. Please note that entities on this list may or may not have current job opportunities for NHSC scholars. Further, not all vacancies associated with sites on the list described below will be for Corps members, but could be for NHSC Scholarship Program participants serving their obligation through the Private Practice Option.

Eligible HPSAs and Entities

To be eligible to receive assignment of Corps personnel, entities must: (1) Have a current HPSA status of “designated” by the Office of Shortage Designation, Bureau of Health Professions, HRSA; (2) not deny requested health care services, or discriminate in the provision of services to an individual because the individual is unable to pay for the services or because payment for the services would be made under Medicare, Medicaid, or the Children's Health Insurance Program (CHIP); (3) enter into an agreement with the State agency that administers Medicaid and CHIP, accept assignment under Medicare, see all patients regardless of their ability to pay and post such policy, and use and post a discounted fee plan; and (4) be determined by the Secretary to have (a) A need and demand for health manpower in the area; (b) appropriately and efficiently used Corps members assigned to the entity in the past; (c) general community support for the assignment of Corps members; (d) made unsuccessful efforts to recruit; (e) a reasonable prospect for sound fiscal management by the entity with respect to Corps members assigned there; and (f) demonstrated a willingness to support and facilitate mentorship, professional development, and training opportunities for Corps members. Priority in approving applications for assignment of Corps members goes to sites that (1) Provide primary medical care, mental health, and/or oral health services to a primary medical care, mental health, or dental HPSA of greatest shortage, respectively; (2) are part of a system of care that provides a continuum of services, including comprehensive primary health care and appropriate referrals or arrangements for secondary and tertiary care; (3) have a documented record of sound fiscal management; and (4) will experience a negative impact on its capacity to provide primary health services if a Corps members is not assigned to the entity.

Entities that receive assignment of Corps personnel must assure that (1) The position will permit the full scope of practice and that the clinician meets the credentialing requirements of the State and site; and (2) the Corps member assigned to the entity is engaged in the requisite amount of clinical practice, as defined below, to meet his or her service obligation:

Full-Time Clinical Practice

“Full-time clinical practice” is defined as a minimum of 40 hours per week for at least 45 weeks per service year. The 40 hours per week may be compressed into no less than 4 work days per week, with no more than 12 hours of work to be performed in any 24-hour period. Time spent on-call does not count toward the full-time service obligation.

For all health professionals, except as noted below, at least 32 of the minimum 40 hours per week must be spent providing direct patient care or teaching in the outpatient ambulatory care setting(s) at the NHSC-approved service site(s) during normally scheduled office hours. The remaining 8 hours per week must be spent providing clinical services for patients or teaching in the approved practice site(s), providing clinical services in alternative settings as directed by the approved practice site(s), or performing practice-related administrative activities. Teaching activities at the approved service site shall not exceed 8 hours of the minimum 40 hours per week, unless the teaching takes place in a HRSA-approved Teaching Health Center. Teaching activities in a Teaching Health Center shall not exceed 20 hours of the minimum 40 hours per week.

For obstetrician/gynecologists, certified nurse midwives (CNMs), family medicine physicians who practice obstetrics on a regular basis, providers of geriatric services, pediatric dentists, and behavioral/mental health providers, at least 21 of the minimum 40 hours per week must be spent providing direct patient care or teaching in the outpatient ambulatory care setting(s) at the NHSC-approved service site(s), during normally scheduled office hours. The remaining 19 hours per week must be spent providing clinical services for patients or teaching in the approved practice site(s), providing clinical services in alternative settings as directed by the approved practice site(s), or performing practice-related administrative activities. No more than 8 hours per week can be spent performing practice-related administrative activities. Teaching activities at the approved service site shall not exceed 8 hours of the minimum 40 hours per week, unless the teaching takes place in a HRSA-approved Teaching Health Center. Teaching activities in a Teaching Health Center shall not exceed 20 hours of the minimum 40 hours per week.

Half-Time Clinical Practice

“Half-time clinical practice” is defined as a minimum of 20 hours per week (not to exceed 39 hours per week), for at least 45 weeks per service year. The 20 hours per week may be compressed into no less than 2 work days per week, with no more than 12 hours of work to be performed in any 24-hour period. Time spent on-call does not count toward the half-time service obligation.

For all health professionals, except as noted below, at least 16 of the minimum 20 hours per week must be spent providing direct patient care in the outpatient ambulatory care setting(s) at the NHSC-approved service site(s), during normally scheduled office hours. The remaining 4 hours per week must be spent providing clinical services for patients or teaching in the approved practice site(s), providing clinical services in alternative settings as directed by the approved practice site(s), or performing practice-related administrative activities. Teaching and practice-related administrative activities shall not exceed a total of 4 hours of the minimum 20 hours per week.

For obstetrician/gynecologists, certified nurse midwives (CNMs), family medicine physicians who practice obstetrics on a regular basis, providers of geriatric services, pediatric dentists, and behavioral/mental health providers, at least 11 of the minimum 20 hours per week must be spent providing direct patient care in the outpatient ambulatory care setting(s) at the NHSC-approved service site(s), during normally scheduled office hours. The remaining 9 hours per week must be spent providing clinical services for patients or teaching in the approved practice site(s), providing clinical services in alternative settings as directed by the approved practice site(s), or performing practice-related administrative activities. Teaching and practice-related administrative activities shall not exceed 4 hours of the minimum 20 hours per week. Half-time clinical service is not an option for scholars serving their obligation through the Private Practice Option.

In addition to utilizing NHSC assignees in accordance with their full-time or half-time service obligation (as defined above), sites receiving assignment of Corps personnel are expected to (1) Report to the NHSC all absences, including those in excess of the authorized number of days (up to 35 full-time days per service year in the case of full-time service and up to 35 half-time days per service year in the case of half-time service); (2) report to the NHSC any change in the status of an NHSC clinician at the site; (3) provide the time and leave records, schedules, and any related personnel documents for NHSC assignees (including documentation, if applicable, of the reason(s) for the termination of an NHSC clinician's employment at the site prior to his or her obligated service end date); and (4) submit an NHSC Site Survey. The survey allows the site to assess the age, sex, race/ethnicity of, and provider encounter records for, its user population. The survey is site specific. Providers fulfilling NHSC commitments are assigned to a specific site or, in some cases, more than one site. The scope of activity to be reported in the survey includes all activity at the site(s) to which the Corps member is assigned.

Evaluation and Selection Process

In order for a site to be eligible for placement of NHSC personnel, it must be approved by the NHSC following the site's submission of a Site Application. The Site Application approval is good for a period of 3 years from the date of approval.

In approving applications for the assignment of Corps members, the Secretary shall give priority to any such application that is made regarding the provision of primary health services to a HPSA with the greatest shortage. For the program year July 1, 2011, through June 30, 2012, HPSAs of greatest shortage for determination of priority for assignment of NHSC scholarship-obligated Corps personnel will be defined as follows: (1) Primary medical care HPSAs with scores of 16 and above are authorized for the assignment of NHSC scholarship recipients who are primary care physicians, family nurse practitioners (NPs), physician assistants (PAs) or CNMs; (2) mental health HPSAs with scores of 16 and above are authorized for the assignment of NHSC scholarship recipients who are psychiatrists or mental health nurse practitioners; and (3) dental HPSAs with scores of 16 and above are authorized for the assignment of NHSC scholarship recipients who are dentists. The NHSC has determined that a minimum HPSA score of 16 for all eligible clinicians will enable it to meet its statutory obligation to identify a number of entities eligible for placement at least equal to, but not greater than, twice the number of NHSC scholars available to serve in the 2011-2012 placement cycle.

The number of new NHSC placements through the Scholarship Program allowed at any one site is limited to one (1) Of the following provider types: Physician (MD/DO) other than psychiatrist, NP, PA, CNM, dentist, or psychiatrist. The NHSC will consider requests for up to two (2) scholar placements at any one site on a case by case basis. Factors that are taken into consideration include community need, as measured by demand for services, patient outcomes and other similar factors. Sites wishing to request an additional scholar must complete an Additional Scholar Request form available at http://nhsc.hrsa.gov/scholarship/pdf/additionalscholarrequestform.pdf.

Application Requests, Dates and Address

The list of HPSAs and entities that are eligible to receive priority for the placement of Corps personnel may be updated periodically. Entities that no longer meet eligibility criteria, including those sites whose 3-year approval as an NHSC service site has lapsed or whose HPSA designation has been withdrawn or proposed for withdrawal, will be removed from the priority listing. New entities interested in being added to the high priority list must submit a Site Application to the National Health Service Corps by visiting http://nhsc.hrsa.gov/communities/apply.htm to apply online. A searchable database of HPSAs and their scores, by State and county, is posted at http://hpsafind.hrsa.gov/.

Additional Information

Entities wishing to provide additional data and information in support of their inclusion on the proposed list of HPSAs and entities that would receive priority in assignment of scholarship-obligated Corps members must do so in writing no later than September 1, 2011. This information should be submitted to: Sonya Bayone, Chief, Site Branch, Division of the National Health Service Corps, Bureau of Clinician Recruitment and Service, 5600 Fishers Lane, Room 8-37, Rockville, MD 20857. This information will be considered in preparing the final list of HPSAs and entities that are receiving priority for the assignment of scholarship-obligated Corps personnel.

The program is not subject to the provisions of Executive Order 12372, Intergovernmental Review of Federal Programs (as implemented through 45 CFR Part 100).

Dated: July 22, 2011.
Mary K. Wakefield,
Administrator.

[FR Doc. 2011-19505 Filed 8-1-11; 8:45 am]

BILLING CODE 4165-15-P